POSTAL SERVICE

Product Change—Priority Mail Negotiated Service Agreement

AGENCY: Postal Service™.

ACTION: Notice.

SUMMARY: Postal Service notice of filing of a request with the Postal Regulatory Commission to add a domestic shipping services contract to the list of Negotiated Service Agreements in the Mail Classification Schedule's Competitive Products List pursuant to 39 U.S.C. 3642 and 3632(b)(3).

DATES: December 27, 2010

FOR FURTHER INFORMATION CONTACT: Elizabeth A. Reed, 202-268-3179.

SUPPLEMENTARY INFORMATION: The United States Postal Service® hereby gives notice that on December 15, 2010, it filed with the Postal Regulatory Commission a Request of the United States Postal Service to Add Priority Mail Contract 30 to Competitive Product List. Documents are available at http://www.prc.gov, Docket Nos. MC2011-9, CP2011-44.

Neva R. Watson,
Attorney, Legislative.

[FR Doc. 2010-32377 Filed 12-23-10; 8:45 am]

BILLING CODE 7710-12-P